DEPARTMENT OF THE INTERIOR

[FWS-R4-ES-2019-N140; FVHC98220410150-XXX-FF04H00000]

Deepwater Horizon Oil Spill Draft Phase 2 Restoration Plan 1.2 and Environmental Assessment: Barataria Basin Ridge and Marsh Creation Project Spanish Pass Increment and Lake Borgne Marsh Creation Project Increment One; Louisiana Trustee Implementation Group

AGENCY: Department of the Interior.

ACTION: Notice of availability; request for public comments.

SUMMARY: In accordance with the Oil Pollution Act of 1990 (OPA), the National Environmental Policy Act of 1969 (NEPA), the Final Programmatic Damage Assessment Restoration Plan and Final Programmatic Environmental Impact Statement (Final PDARP/PEIS), and the Consent Decree, the Federal and State natural resource trustee agencies for the Louisiana Trustee Implementation Group (LA TIG) have prepared a Louisiana Trustee Implementation Group Draft Restoration Plan/Environmental Assessment #1.2: Barataria Basin Ridge and Marsh Creation Project Spanish Pass Increment and Lake Borgne Marsh Creation Project Increment One (Phase 2 RP/EA #1.2), proposing construction activities for the restoration of wetlands, coastal, and nearshore habitats injured in the Louisiana Restoration Area as a result of the Deepwater Horizon (DWH) oil spill. The two projects are components of larger marsh restoration strategies, and were approved for engineering and design (E&D) in a 2017 restoration plan entitled Louisiana Trustee Implementation Group Final Restoration Plan #1: Restoration of Wetlands, Coastal, and Nearshore Habitats; Habitat Projects on Federally Managed Lands; and Birds (Phase 1 RP #1). The Phase 2 RP/EA #1.2 analyzes design alternatives for the two projects, and proposes a preferred design alternative for construction of each. We invite comments on the draft Phase 2 RP/EA #1.2.

DATES:

Submitting Comments: We will consider public comments on the draft Phase 2 RP/EA #1.2 received on or before November 18, 2019.

Public Webinar: The LA TIG will host a public webinar on October 28, 2019, at 4:00 p.m. Central Standard Time. The public may register for the webinar at https://attendee.gotowebinar.com/register/4633351197181038605. After registering, participants will receive a confirmation email with instructions for joining the webinar. The presentation material will be posted on the web shortly after the webinar is concluded at https://www.gulfspillrestoration.noaa.gov/restoration-areas/louisiana.

ADDRESSES:

Obtaining Documents: You may download the draft Phase 2 RP/EA #1.2 from either of the following websites:

• https://www.doi.gov/deepwaterhorizon

• https://www.gulfspillrestoration.noaa.gov/restoration-areas/louisiana

Alternatively, you may request a CD of the draft Phase 2 RP/EA #1.2 (see FOR FURTHER INFORMATION CONTACT). A hard copy of the Phase 2 RP/EA #1.2 is also available for review during the public comment period at repositories located across the region. Locations are listed in the following table.

Library | Address | City | Zip
St. Tammany Parish Library | 310 W 21st Avenue | Covington | 70433
Terrebonne Parish Library | 151 Library Drive | Houma | 70360
New Orleans Public Library, Louisiana Division | 219 Loyola Avenue | New Orleans | 70112
East Baton Rouge Parish Library | 7711 Goodwood Boulevard | Baton Rouge | 70806
Jefferson Parish Library, East Bank Regional Library | 4747 W Napoleon Avenue | Metairie | 70001
Jefferson Parish Library, West Bank Regional Library | 2751 Manhattan Boulevard | Harvey | 70058
Plaquemines Parish Library | 8442 Highway 23 | Belle Chasse | 70037
St. Bernard Parish Library | 1125 E St. Bernard Highway | Chalmette | 70043
St. Martin Parish Library | 201 Porter Street | St. Martinville | 70582
Alex P. Allain Library | 206 Iberia Street | Franklin | 70538
Vermilion Parish Library | 405 E St. Victor Street | Abbeville | 70510
Martha Sowell Utley Memorial Library | 314 St. Mary Street | Thibodaux | 70301
South Lafourche Public Library | 16241 E Main Street | Cut Off | 70345
Calcasieu Parish Public Library Central Branch | 301 W Claude Street | Lake Charles | 70605
Iberia Parish Library | 445 E Main Street | New Iberia | 70560
Mark Shirley, LSU AgCenter | 1105 West Port Street | Abbeville | 70510

Submitting Comments: You may submit comments on the draft Phase 2 RP/EA #1.2 by one of the following methods:

• Via the Web: https://www.gulfspillrestoration.noaa.gov/restoration-areas/louisiana.

• Via U.S. Mail: U.S. Fish and Wildlife Service, P.O. Box 29649, Atlanta, GA 30345. To be considered, mailed comments must be postmarked on or before the comment deadline given in DATES.

• During the public webinar: Written comments may be provided by the public during the webinar. Webinar information is provided in DATES.

FOR FURTHER INFORMATION CONTACT: Nanciann Regalado, via email at nanciann_regalado@fws.gov, via telephone at 678-296-805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Louisiana Restoration Area are chosen and managed by the LA TIG. The LA TIG is composed of the following Trustees: State of Louisiana Coastal Protection and Restoration Authority, Oil Spill Coordinator's Office, Departments of Environmental Quality, Wildlife and Fisheries, and Natural Resources; DOI; NOAA; EPA; and USDA.

Background

The Final PDARP/PEIS provides for TIGs to propose phasing restoration projects across multiple restoration plans. A TIG may propose conceptual projects to fund for an information-gathering planning phase, such as E&D, in a restoration plan (phase 1). This would allow the TIG to develop information needed to fully consider a subsequent implementation phase of that project in a later restoration plan (phase 2). In the final Phase 1 RP #1, the LA TIG selected six conceptual projects for E&D, using funds from the wetlands, coastal, and nearshore habitats restoration type, as provided for in the DWH Consent Decree. Two of those projects selected to undergo E&D are the Barataria Basin Ridge and Marsh Creation Project Spanish Pass Increment (Spanish Pass project) and the Lake Borgne Marsh Creation Project Increment One (Lake Borgne project). The design alternatives developed during E&D are currently at a stage where proposed construction activities may be analyzed under OPA and NEPA. Therefore, in the draft Phase 2 RP/EA #1.2, the Louisiana TIG is proposing to finalize and implement their preferred design alternatives to construct the Spanish Pass and Lake Borgne projects.

Overview of the LA TIG Draft Phase 2 RP/EA #1.2

The draft Phase 2 RP/EA #1.2 is being released in accordance with OPA NRDA regulations found in the Code of Federal Regulations (CFR) at 15 CFR part 990, NEPA and its implementing regulations found at 40 CFR parts 1500-508, the Final PDARP/PEIS, and the Consent Decree. The Phase 2 RP/EA #1.2 provides OPA and NEPA analyses for a reasonable range of design alternatives for the Spanish Pass and Lake Borgne projects, and identifies the LA TIG's preferred design alternatives.

The proposed Spanish Pass project is a component of an overall large-scale restoration strategy for the Barataria Basin that would reestablish, through multiple increments, ridge and intertidal marsh habitats degraded due to sea level rise, land subsidence, diminished sediment supply, and storm events. The total cost for the proposed Spanish Pass project is approximately $99,396,000.

The proposed Lake Borgne project is a component of an overall large-scale restoration strategy for the southwestern shoreline of Lake Borgne that would reestablish, through multiple increments, the bay rim and intertidal marsh habitat. The estimated total cost for this proposed increment is $108,814,700.

Next Steps

As described above in DATES, the Trustees will host a public webinar to facilitate the public review and comment process. After the public comment period ends, the Trustees will consider and address the comments received before issuing a final Phase 2 RP/EA #1.2.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the Phase 2 RP/EA #1.2 can be viewed electronically at https://www.doi.gov/deepwaterhorizon/adminrecord.

Authority

The authority for this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Director of Gulf of Mexico Restoration, Department of Interior.

[FR Doc. 2019-22778 Filed 10-17-19; 8:45 am]

BILLING CODE 4333-15-P